ENVIRONMENTAL PROTECTION AGENCY

[FRL-7166-4]

Murray Ohio Superfund Site; Notice of Proposed Settlement

AGENCY: Environmental Protection Agency (EPA).

ACTION: Notice.

SUMMARY: The United States Environmental Protection Agency is proposing to enter into a settlement with Murray Inc., pursuant to 122(h) of the comprehensive Environmental Response, Compensation, and Liability Act of 1980, as amended, regarding the Murray Ohio Superfund Site located in Lawrenceburg, Tennessee. EPA will consider public comments on the proposed settlement for thirty (30) days. EPA may withdraw from or modify the proposed settlement should such comments disclose facts or considerations which indicate the proposed settlement is inappropriate, improper or inadequate. Copies of the proposed settlement are available from: Ms Paula V. Batchelor, U.S. EPA region 4 (WMD-CPSB), Sam Nunn Atlanta Federal Center, 61 Forsyth Street, SW., Atlanta Georgia 30303, (404) 562-8887.

Written Comments may be submitted to Ms. Batchelor within thirty (30) calendar days of the date of this publication.

Dated: March 12, 2002.
Franklin E. Hill,
Chief, CERCLA Program Services Branch, Waste Management Division.

[FR Doc. 02-7942 Filed 4-1-02; 8:45 am]

BILLING CODE 6560-50-P